DEPARTMENT OF HEALTH AND HUMAN SERVICES

Sole Source Cooperative Agreement Award to the Association for State and Territorial Health Officials (ASTHO)

AGENCY: Office of Policy and Planning, Assistant Secretary for Preparedness and Response (ASPR), Department of Health and Human Services (HHS).

ACTION: Notification of a Sole Source Cooperative Agreement Award to the Association for State and Territorial Health Officials (ASTHO) for a grant titled: “Technical Assistance to Obtain State and Territorial Health Department Input for National Health Security-related Activities”.

Statutory Authority: Public Health Service Act, Section 1703(a), 42 U.S.C. Section 300u-2(a).

Estimated Amount of Award: $1,500,000 USD.

Project Period: September 30, 2013 to September 29, 2016.

SUMMARY: ASPR requires collaboration with state and territorial health departments and officials to ensure that state and local governments, communities, private sector entities, non-governmental organizations, academia, and individuals can optimally coordinate their respective national health security roles and responsibilities to achieve community health resilience and strengthen health care, public health, and emergency management systems. This project aims to improve collaboration between ASPR and the state health departments (SHDs) to enhance national health security, foster community health resilience, and strengthen health care, public health, and emergency management systems. One of the overarching goals of both the National Health Security Strategy (2009) and the ASPR Strategic Plan 2011-2015 is to build community health resilience. ASPR seeks to partner with SHDs and territorial health officials, which play a critical role in building community health resilience by employing and evaluating public health strategies such as preparing local communities to withstand and recover from public health emergencies and disasters, and engaging health care organizations to build healthcare coalitions. The project will foster better approaches for building community health resilience.

SHDs and territorial health officials are intimately familiar with the communities and populations that they serve and are an essential partner in carrying out the mission of ASPR. ASPR seeks to engage SHDs and health officials as well as other appropriate stakeholders in bi-directional communications to evaluate the effectiveness of, and ensure that, ASPR's strategies, policies, and programmatic activities are informed by and support the needs of states, territories, and local communities. The project will foster collaboration with state health officials to achieve, for example, national health security and strengthen emergency preparedness, response, and recovery systems and capabilities, and build well-functioning healthcare coalitions, among other activities.

ASPR seeks to partner with SHDs and territorial health officials and local communities which frequently prepare for, respond to, and recover from emergency incidents and to identify valuable lessons learned and promising practices to collect and share these practices with other SHDs and communities. This project will capture lessons and promising practices and share them more widely.

Justification: The Association for State and Territorial Health Officials (ASTHO) is the only national nonprofit membership organization that includes membership representation from every state and local public health agency in the United States (U.S.), the U.S. Territories, the District of Columbia, and over 100,000 public health professionals employed by these agencies. ASTHO members, the chief health officials of these jurisdictions, formulate and influence sound public health policy and ensure excellence in state-based public health practice. The ASTHO organization has the unique ability to represent the perspectives of all the state and territorial health officials across the nation.

Additional Information: The agency program contact is Lisa Kaplowitz, who can be contacted by phone at (202) 202-2882 or via email at Lisa.Kaplowitz@hhs.gov.

Dated: August 28, 2013.
Nicole Lurie,
Assistant Secretary for Preparedness and Response.

[FR Doc. 2013-21549 Filed 9-4-13; 8:45 am]

BILLING CODE 4150-37-P